DEPARTMENT OF COMMERCE

International Trade Administration

A-570-601

Tapered Roller Bearings and Parts Thereof, Finished and Unfinished, from the People's Republic of China: Final Results of 2004-2005 Administrative Review and Partial Rescission of Review

AGENCY: Import Administration, International Trade Administration, Department of Commerce.

SUMMARY: The Department of Commerce (“the Department”) published its preliminary results of administrative review of the antidumping duty order on tapered roller bearings and parts thereof, finished and unfinished (“TRBs”), from the People's Republic of China (“PRC”) on July 14, 2006. The period of review (“POR”) is June 1, 2004, through May 31, 2005. We invited interested parties to comment on our preliminary results. Based on our analysis of the comments received, we have made changes to our margin calculations. Therefore, the final results differ from the preliminary results. The final dumping margins for this review are listed in the “Final Results of Review” section below.

EFFECTIVE DATE: December 19, 2006.

FOR FURTHER INFORMATION CONTACT: Eugene Degnan, AD/CVD Operations, Office 8, Import Administration, International Trade Administration, U.S. Department of Commerce, 14th Street and Constitution Avenue, NW, Washington, DC 20230; telephone (202) 482-0414.

SUPPLEMENTARY INFORMATION:

Background

On July 14, 2006, the Department published its preliminary results. See Tapered Roller Bearings and Parts Thereof, Finished and Unfinished, from the People's Republic of China: Preliminary Results of 2003-2004 Antidumping Administrative Review, and Notice of Intent to Rescind in Part, 71 FR 40069 (July 14, 2006) (“Preliminary Results”). On August 11, 2006, The Timken Company (i.e., Petitioner) submitted a case brief. On August 18, 2006, China National Machinery Import & Export Corporation (“CMC”) submitted a rebuttal brief.

On November 16, 2006, the Department published a notice extending the time limit for the final results of review until December 11, 2006. See Notice of Extension of Final Results of the 2003-2004 Administrative Review of Tapered Roller Bearings and Parts Thereof, Finished or Unfinished from the People's Republic of China, 71 FR 66750 (November 16, 2006). We have conducted this administrative review in accordance with section 751 of the Tariff Act of 1930, as amended (“the Act”), and 19 CFR 351.213.

Scope of Order

Merchandise covered by this order is TRBs from the PRC; flange, take-up cartridge, and hanger units incorporating tapered roller bearings; and tapered roller housings (except pillow blocks) incorporating tapered rollers, with or without spindles, whether or not for automotive use. This merchandise is currently classifiable under the Harmonized Tariff Schedule of the United States (“HTSUS”) item numbers 8482.20.00, 8482.91.00.50, 8482.99.15, 8482.99.45, 8483.20.40, 8483.20.80, 8483.30.80, 8483.90.20, 8483.90.30, 8483.90.80, 8708.99.80.15, and 8708.99.80.80. Although the HTSUS item numbers are provided for convenience and customs purposes, the written description of the scope of the order is dispositive.

Rescission of Review

In our preliminary results, we stated we preliminarily rescinded the review with respect to Chin Jun Industrial Ltd. (“Chin Jun”), Peer Bearing Company—Changshan (“CPZ”), Weihai Machinery Holding (Group) Company, Ltd. (“Weihai Machinery”), and Zhejiang Machinery Import & Export Corp (“ZMC”) in accordance with 19 CFR 351.213(d)(1). Chin Jun, CPZ, and ZMC had all reported that they had either no sales or no exports to the United States during the POR and we had no evidence of shipments to the United States from these companies during the POR. See Preliminary Results, 71 FR at 40071. Additionally, in our preliminary results, for Weihai Machinery, we stated that the customs inquiry provided no evidence that Weihai Machinery had any shipments of subject merchandise during the POR and information on the record indicated that Weihai Machinery had no shipments and may be out of business, but indicated that we would continue to pursue this issue for the final results.

On July 13, 2006, the Department received confirmation from the Weihai Administration for Industry and Commerce that Weihai Machinery terminated operations on or before December 16, 2003. See Memo to the file: Weihai Machinery Industry Supply Co., Ltd.: Cancellation of Company Registration, dated November 29, 2006. Accordingly, we are rescinding this review with respect to Weihai Machinery. In addition, since we have received no new information since the preliminary results that contradicts the decision made in the preliminary results with respect to Chin Jun, CPZ or ZMC, we are rescinding the administrative review with respect to these companies as well.

Analysis of Comments Received

All issues raised in the post-preliminary comments by parties in this review are addressed in the memorandum from Stephen J. Claeys, Deputy Assistant Secretary for Import Administration, to David M. Spooner, Assistant Secretary for Import Administration, “Issues and Decision Memorandum for the Final Results of the 18th Administrative Review of the Antidumping Duty Order on Tapered Roller Bearings and Parts Thereof, Finished and Unfinished, from the People's Republic of China,” dated December 11, 2006 (“Issues and Decision Memorandum”), which is hereby adopted by this notice. A list of the issues which parties raised and to which we responded in the Issues and Decision Memorandum is attached to this notice as an appendix. The Issues and Decision Memorandum is a public document which is on file in the Central Records Unit (“CRU”) in room B-099 in the main Department building, and is accessible on the Web at http://ia.ita.doc.gov/frn. The paper copy and electronic version of the memorandum are identical in content.

Surrogate Country

In the Preliminary Results, we stated that we treat the PRC as a non-market economy (“NME”) country, and therefore, we calculated normal value in accordance with section 773(c) of the Act which applies to NME countries. Also, we stated that we had selected India as the appropriate surrogate country to use in this review for the following reasons: (1) It is a significant producer of comparable merchandise; and (2) provides contemporaneous publicly available data to value the factors of production, pursuant to section 773(c)(4) of the Act. See Preliminary Results. For the final results, we made no changes to our findings with respect to the selection of a surrogate country.

Separate Rates

In proceedings involving NME countries, the Department begins with a rebuttable presumption that all companies within the country are subject to government control and, thus, should be assigned a single antidumping duty deposit rate. It is the Department's policy to assign all exporters of merchandise subject to review in an NME country this single rate unless an exporter can demonstrate that it is free of de jure and de facto control over its export decisions, so as to be entitled to a separate rate.

In the Preliminary Results, we found that CMC demonstrated its eligibility for separate-rate status. For the final results, we continue to find that the evidence placed on the record of this administrative review by CMC demonstrates an absence of government control, both in law and in fact, with respect to its exports of the merchandise under review and thus determine CMC is eligible for separate-rate status.

Changes Since the Preliminary Results

Based on our analysis of comments received, we have made changes in the margin calculations for CMC. See Issues and Decision Memorandum at Comments 2 and 3.

• For these final results, we have changed the surrogate value ratio calculations derived from each of the two surrogate companies. For ratios derived from SKF India Limited, we have excluded the line item “consumption of traded goods” from the denominator of the factory overhead ratio. However, we continue to include the line item “consumption of traded goods” in the denominator of the selling, general, and administrative expenses (“SG&A”), profit and interest ratios. For ratios derived from Timken India Limited, we have added the line item “purchase of products for resale” to the denominators of the SG&A, profit, and interest ratios.

• For the profit ratio derived from Timken India Limited, we corrected a clerical error to use the value from “profit before tax” in this calculation.

Final Results of Review

We determine that the following dumping margins exist for the period June 1, 2004, through May 31, 2005:

TRBs from the PRC
Producer/Manufacturer/Exporter | Weighted-Average Margin (Percent)
China National Machinery Import & Export Corporation | 0.00

Assessment Rates

The Department intends to issue assessment instructions to U.S. Customs and Border Protection (“CBP”) 15 days after the date of publication of these final results of administrative review.

Cash Deposit Requirements

The following deposit requirements will be effective upon publication of this notice of final results of administrative review for all shipments of TRBs from the PRC entered, or withdrawn from warehouse, for consumption on or after the date of publication, as provided by section 751(a)(1) of the Act: (1) For CMC, the cash deposit rate will be zero; (2) for previously reviewed or investigated companies not listed above that have a separate rate, the cash deposit rate will continue to be the company-specific rate published for the most recent period; (3) the cash deposit rate for all other PRC exporters will be 60.95 percent, the current PRC-wide rate; and (4) the cash deposit rate for all non-PRC exporters will be the rate applicable to the PRC exporter that supplied that exporter. These deposit requirements, when imposed, shall remain in effect until publication of the final results of the next administrative review.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections 751(a)(1) and 77(i)(1) of the Act.

Dated: December 11, 2006.
David M. Spooner,
Assistant Secretary for Import Administration.

Appendix

List of Comments and Issues in the Decision Memorandum

Comment 1: Outdated TRBs tariff classification

Comment 2: Remove “consumption of Traded Goods” from surrogate financial ratio

Comment 3: Ministerial error on Timken India Limited's “profit before tax”

[FR Doc. E6-21632 Filed 12-18-06; 8:45 am]

BILLING CODE 3510-DS-S